GENERAL SERVICES ADMINISTRATION

41 CFR Parts 105-53, 105-55, 105-56, 105-57, and 105-60

[GSPMR Case 2012-105-1; Docket 2012-0010; Sequence 1]

RIN 3090-AJ28

U.S. General Services Administration Federal Property Management Regulations; Administrative Wage Garnishment

AGENCY: Office of the Chief Financial Officer, U.S. General Services Administration (GSA).

ACTION: Final rule.

SUMMARY: GSA is amending the U.S. General Services Administration Property Management Regulation (GSPMR) to remove information concerning the General Services Board of Contract Appeals (GSBCA), which no longer exists, and to provide information concerning its successor, the Civilian Board of Contract Appeals (CBCA).

DATES: Effective Date: May 20, 2013.

FOR FURTHER INFORMATION CONTACT: For clarification of content, contact Mr. Erik Dorman, Financial Policy and Analysis Division, at 202-501-4568 or via email at erik.dorman@gsa.gov. For information pertaining to status or publication schedules, contact the Regulatory Secretariat at 202-501-4755. Please cite GSPMR Case 2012-105-1.

SUPPLEMENTARY INFORMATION:

I. Background

This final rule is to update the references to the U.S. General Services Administration Board of Contract Appeals, which no longer exists, and to also provide information concerning its successor, the Civilian Board of Contract Appeals, to include its creation, authority, functions, location, mailing address, and telephone number. The Administrative Wage Garnishment Code of Federal Regulations (CFR) Parts affected are as follows:

• 41 CFR part 105-53 provides a general description of GSA and of its components and their functions.

• 41 CFR part 105-55 provides standards and procedures for the administrative collection, offset, compromise, and the suspension or termination of collection activity for civil claims for money, funds, or property, as defined by 31 U.S.C. 3701(b).

• 41 CFR part 105-56 provides standards and procedures for the collection under 5 U.S.C. 5514 of certain debts to the United States by administrative offset from the disposable pay of a GSA employee or a cross-serviced agency employee.

• 41 CFR part 105-57 provides standards and procedures, pursuant to the Debt Collection Improvement Act of 1996 (codified at 31 U.S.C. 3720D) and U.S. Department of the Treasury Wage Garnishment Regulations (at 31 CFR 285.11), for GSA to collect money from a debtor's disposable pay by means of administrative wage garnishment to satisfy delinquent non-tax debt owed to the United States.

• 41 CFR part 105-60 provides a general description of policies and procedures of GSA regarding public access to GSA records.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

III. Regulatory Flexibility Act

This final rule would not have a significant economic impact on a substantial number of small entities within the meaning of the Regulatory Flexibility Act, 5 U.S.C. 601, et seq. This final rule is also exempt from the Regulatory Flexibility Act per 5 U.S.C. 553(a)(2) because it applies to agency management. However, this final rule is being published to provide transparency in the promulgation of Federal policies.

IV. Executive Order 13132

This regulation will not have a substantial direct effect on the states, on the relationship between the national government and the states, or on distribution of power and responsibilities among the various levels of Government. Therefore, in accordance with E.O. 13132, it is determined this regulation does not have sufficient Federalism implications to warrant the preparation of a Federalism Assessment.

V. Unfunded Mandates Reform Act of 1995

This regulation will not result in the expenditure by state, local and tribal governments, in the aggregate, or by the private sector, of $100 million or more in any one (1) year, and it will not significantly or uniquely affect small governments. Therefore, no actions were deemed necessary under the provisions of the Unfunded Mandates Reform Act of 1995.

VI. Small Business Regulatory Enforcement Fairness Act of 1996

This rule is not a major rule as defined by section 251 of the U.S. Small Business Regulatory Enforcement Act, 5 U.S.C. 804. This rule will not result in an annual effect on the economy of $100 million or more; a major increase in costs or prices; or significant adverse effects on competition, employment, investment, productivity, innovation, or on the ability of United States-based companies to compete with foreign-based companies in domestic or export markets.

VII. Paperwork Reduction Act

The Paperwork Reduction Act does not apply because the proposed changes to the FMR do not impose information collection requirements that require the approval of the Office of Management and Budget under 44 U.S.C. 3501, et seq.

List of Subjects in 41 CFR Parts 105-53, 105-55, 105-56, 105-57, and 105-60

Claims, Government public contracts and property management, and Income taxes.

Dated: May 3, 2013.
Dan Tangherlini,
Acting Administrator of General Services.

For the reasons set forth in the preamble, GSA amends 41 CFR parts 105-53, 105-55, 105-56, 105-57, and 105-60 as set forth below:

PART 105-53—STATEMENT OF ORGANIZATION AND FUNCTIONS

1. The authority citation for 41 CFR part 105-53 continues to read as follows:

Authority: 5 U.S.C. 552(a)(1), Pub. L. 90-23, 81 Stat. 54 sec. (a)(1); 40 U.S.C. 486(c), Pub. L. 81-152, 63 Stat. 390, sec. 205(c).

2. Revise § 105-53.120 to read as follows:

§ 105-53.120 Address and telephone numbers.

The Office of the Administrator; Office of Civil Rights; Office of Citizen Services and Innovative Technologies; Office of the Chief Information Officer; Office of Emergency Response and Recovery; Office of the Chief Financial Officer; Chief Administrative Services Officer; Office of Congressional and Intergovernmental Affairs; Office of Small Business Utilization; Office of General Counsel; Office of the Chief People Officer; Office of Communications and Marketing; Office of Governmentwide Policy; Public Buildings Service and the Office of Inspector General are located at 18th and F Streets NW., Washington, DC 20405. The Federal Acquisition Service is located at 2200 Crystal Drive Room 1000, Arlington, VA 22202-3713; however, the mailing address is Washington, DC 20406. The telephone number for the above addresses is 202-472-1082. The Civilian Board of Contract Appeals (CBCA) is located at 1800 M Street NW., 6th Floor, Washington, DC 20036; however, the CBCA mailing address is 1800 F Street NW., Washington, DC 20405. The CBCA telephone number is 202-606-8800. The addresses of the eleven regional offices are provided in § 105-53.151.

3. Revise § 105-53.132 to read as follows:

§ 105-53.132 Civilian Board of Contract Appeals.

(a) Creation and authority. The Civilian Board of Contract Appeals, headed by the Chairman, Civilian Board of Contract Appeals, was established on January 6, 2007, pursuant to section 847 of the National Defense Authorization Act for Fiscal Year 2006, Pub. L. 109-163, 119 Stat. 3391.

(b) Functions. The CBCA hears, considers, and decides contract disputes between Government contractors and Executive agencies (other than the U.S. Department of Defense, the U.S. Department of the Army, the U.S. Department of the Navy, the U.S. Department of the Air Force, the U.S. National Aeronautics and Space Administration, the U.S. Postal Service, the Postal Rate Commission, and the Tennessee Valley Authority) under the provisions of the Contract Disputes Act, 41 U.S.C. 7101-7109, and regulations and rules issued thereunder. The Board also conducts other proceedings as required or permitted under statutes or regulations. Such other proceedings include the resolution of disputes involving grants and contracts under the Indian Self-Determination and Education Assistance Act, 25 U.S.C. 450, et seq.; the resolution of disputes between insurance companies and the U.S. Department of Agriculture's Risk Management Agency (RMA) involving actions of the Federal Crop Insurance Corporation (FCIC) pursuant to the Federal Crop Insurance Act, 7 U.S.C. 1501, et seq.; requests by carriers or freight forwarders to review actions taken by the Audit Division of the U.S. General Services Administration's Office of Transportation and Property Management pursuant to 31 U.S.C. 3726(i)(1); claims by Federal civilian employees against the United States for reimbursement of expenses incurred while on official temporary duty travel, and expenses incurred in connection with relocation to a new duty station pursuant to 31 U.S.C. 3702; and requests of agency disbursing or certifying officials, or agency heads, on questions involving payment of travel or relocation expenses pursuant to section 204 of the U.S. General Accounting Office Act of 1996, Public Law 104-316.

(c) Regulations. Regulations pertaining to CBCA programs are published in 48 CFR Chapter 61. Information on availability of the regulations is provided in § 105-53.116.

§ 105-53.138 [Amended]

4. Amend § 105-53.138 by removing the word “Board” and adding “Civilian Board” in its place.

PART 105-55—COLLECTION OF CLAIMS OWED THE UNITED STATES

5. The authority citation for 41 CFR part 105-55 continues to read as follows:

Authority: 5 U.S.C. 552-553; 31 U.S.C. 321, 3701, 3711, 3716, 3717, 3718, 3719, 3720B, 3720D; 31 CFR parts 900-904.

6. Amend § 105-55.002 by revising paragraph (l) to read as follows:

§ 105-55.002 Definitions.

* * * * *

(l) Hearing official means a Board Judge of the Civilian Board of Contract Appeals.

* * * * *

§ 105-55.011 [Amended]

7. Amend § 105-55.011 by—

a. Removing from paragraph (e)(1) “GSA Board of Contract Appeals (GSBCA) at the address indicated in paragraph (e)(6) of this section” and adding “Civilian Board of Contract Appeals (CBCA) at 1800 F Street NW., Washington, DC 20405” in its place;

b. Removing from paragraph (e)(5) “GSBCA” and adding “CBCA” in its place; and

c. Removing from paragraph (e)(6) “GSA Central Office, 1800 F Street NW., Washington, DC 20405,” and adding “1800 M Street NW., 6th Floor, Washington, DC 20036,” in its place.

PART 105-56—SALARY OFFSET FOR INDEBTEDNESS OF FEDERAL EMPLOYEES TO THE UNITED STATES

8. The authority citation for 41 CFR part 105-56 continues to read as follows:

Authority: 5 U.S.C. 5514; 31 U.S.C. 3711; 31 U.S.C. 3716; 5 CFR part 550, subpart K; 31 CFR part 5; 31 CFR 285.7; 31 CFR parts 900-904.

§ 105-56.003 [Amended]

9. Amend § 105-56.003 by removing from paragraph (m) “GSA Board of Contract Appeals (GSBCA)” and adding “Civilian Board of Contract Appeals (CBCA)” in its place.

§ 105-56.006 [Amended]

10. Amend § 105-56.006 by—

a. Removing from paragraph (d)(1) “GSBCA” and adding “CBCA” in its place; and

b. Removing from paragraph (e) “GSA Central Office, 1800 F St., NW., Washington, DC 20405,” and adding “1800 M Street NW., 6th Floor, Washington, DC 20036,” in its place.

PART 105-57—ADMINISTRATION WAGE GARNISHMENT

11. The authority citation for 41 CFR part 105-57 is revised to read as follows:

Authority: 5 U.S.C. 552-553, 31 U.S.C. 3720D, 31 CFR 285.11.

§ 105-57.002 [Amended]

12. Amend § 105-57.002 by removing from paragraph (p) “GSA Board of Contract Appeals (GSBCA)” and adding “Civilian Board of Contract Appeals (CBCA)” in its place.

§ 105-57.005 [Amended]

13. Amend § 105-57.005 by—

a. Removing from paragraph (a) “GSA Board of Contract Appeals (GSBCA) at the address indicated in paragraph (b)(2) of this section” and adding “Civilian Board of Contract Appeals (CBCA) at 1800 F Street NW., Washington, DC 20405” in its place; and

b. Removing from paragraph (b)(2) “GSA Central Office, 1800 F St. NW., Washington, DC 20405,” and adding “1800 M Street NW., 6th Floor, Washington, DC 20036,” in its place.

PART 105-60—PUBLIC AVAILABILITY OF AGENCY RECORDS AND INFORMATIONAL MATERIALS

14. The authority citation for 41 CFR part 105-60 continues to read as follows:

Authority: 5 U.S.C. 301 and 552; 40 U.S.C. 486(c).

15. Amend § 105-60.602 by revising paragraph (d)(2) to read as follows:

§ 105-60.602 Definitions.

* * * * *

(d) * * *

(2) The Counsel to the Civilian Board of Contract Appeals (CBCA) for material and information which is the responsibility of the CBCA or testimony of current or former CBCA employees;

* * * * *

§ 105-60.603 [Amended]

16. Amend § 105-60.603 by removing from paragraph (a) the word “Board” and adding “Civilian Board” in its place.

[FR Doc. 2013-11911 Filed 5-17-13; 8:45 am]

BILLING CODE 6820-FM-P